DELAWARE RIVER BASIN COMMISSION

Notice of Commission Meeting and Public Hearing

Notice is hereby given that the Delaware River Basin Commission will hold an informal conference followed by a public hearing on Wednesday, March 16, 2005. The hearing will be part of the Commission's regular business meeting. Both the conference session and business meeting are open to the public and will be held at the offices of Wolf, Block, Schorr and Solis-Cohen, LLP, 1650 Arch Street, Philadelphia, Pennsylvania, in the 26th floor conference room.

The conference among the commissioners and staff will begin at 9:30 a.m. Topics of discussion will include: a status report on the development of numeric values for existing water quality in the Lower Delaware; a report of the Water Management Advisory Committee; a report of the Flow Management Technical Advisory Committee; a proposal to amend Resolution No. 2002-33 relating to the operation of Lake Wallenpaupack during drought watch, drought warning and drought operations (previously noticed as a resolution to amend the Water Code and Comprehensive Plan relating to the coordinated operation of lower basin and hydroelectric reservoirs during a basinwide drought); a report on the February 17-18, 2005 meeting of the Expert Panel for the Phase 2 TMDL for PCBs in the Delaware Estuary; and a proposal to amend the Water Quality Regulations, Water Code and Comprehensive Plan by establishing pollutant minimization plan requirements for point and non-point discharges following issuance of a TMDL or assimilative capacity determination.

The subjects of the public hearing to be held during the 1:30 p.m. business meeting include the dockets listed below:

1. Forest Park Water (North Penn and North Wales Water Authorities) D-65-76 CP-9. An application to treat and discharge additional wastewater resulting from the proposed expansion of the Forest Park Water Treatment Plant located in Chalfont Borough, Bucks County, Pennsylvania. The applicant clarifies and disinfects up to 2 million gallons per day (mgd) of filter backwash and rinse water prior to discharging to Pine Run in the Neshaminy Creek Watershed. The potable water filtration plant will be expanded from 30 to 40 mgd to meet the existing Water Allocation Permit limit. Therefore, no expansion of the Point Pleasant Pumping Station on the Delaware River is required. The expanded waste water treatment and water filtration facilities will continue to serve portions of Bucks and Montgomery Counties, both in Pennsylvania.

2. Borough of Phoenixville D-67-80 CP-2. An application to upgrade a 4 million gallon per day sewage treatment plant (STP) to meet proposed nitrification standards and to improve effluent disinfection. The project is located off the intersection of Main Street and Second Avenue in Phoenixville Borough, Chester County, Pennsylvania. The project will continue to serve Phoenixville Borough, Schuylkill Township and East Pikeland Township, all in Chester County. STP effluent will continue to be discharged to the non-tidal Schuylkill River in an area designated as Modified-Recreational in the DRBC Comprehensive Plan. No expansion of annual average treatment capacity is proposed, but the ability to treat wet weather related surges will be significantly improved.

3. Waste Management Disposal Services of Pennsylvania, Inc. D-88-54-2. An application to modify a landfill leachate treatment plant discharge to the tidal Delaware River via a constructed discharge cove in Water Quality Zone 2. The treatment plant serves the Tullytown and GROWS Landfills and is located off Bordentown Road in Falls Township, Bucks County, Pennsylvania. The existing 0.1 million gallon per day leachate treatment plant utilizes the Best Available Treatment Technology but cannot consistently meet effluent total dissolved solids and color limits. The docket holder has requested modification to its docket to allow an increase in the average discharge concentration of Total Dissolved Solids to 10,000 mg/l from the current 6,560 mg/l and an increase in the maximum effluent limit for True Color to 1,500 units from the current 750 units on a platinum-cobalt scale. In support of its requested modifications, the docket holder has completed an environmental study that indicates the changes would result in no significant impact to the Delaware Estuary. No increase in treatment plant capacity is proposed. The docket holder also proposes to construct two effluent storage tanks at the GROWS leachate treatment plant to replace an existing tank and seeks approval to haul leachate to a proposed transfer station that will reroute flow to the Morrisville Borough sewage treatment plant, just upstream on the tidal Delaware River within Water Quality Zone 2.

4. County of Bucks—Neshaminy Manor Complex D-91-36 CP RENEWAL. An application for the renewal of a ground water withdrawal project to continue withdrawal of 6.0 mg/30 days to supply the applicant's commercial and institutional water supply distribution system from existing Wells Nos. 4 and 5 in the Lockatong and Stockton formations, respectively. The project is located in Doylestown Township, Bucks County, Pennsylvania and is located in the Southeastern Pennsylvania Ground Water Protected Area.

5. Talamore at Oak Terrace Inc. D-93-30-2. An application for renewal of a ground water withdrawal project to continue to supply up to 5.0 million gallons per 30 days (mg/30 days) of water for supplemental irrigation of the applicant's golf course from three existing wells, all in the Stockton Formation. No change in the existing allocation is proposed. The project is located in the Park Creek Watershed in Horsham Township, Montgomery County, in the Southeast Pennsylvania Ground Water Protected Area.

6. Sealed Air Corporation D-94-81-2. An application for renewal of a ground water withdrawal project to continue to supply up to 8.0 million gallons per thirty days of water for industrial process from existing Wells Nos. PW-1 and PW-2 located in the Buffalo Springs Formation. No increase in allocation is proposed. The project is located in the Schuylkill River Watershed in the City of Reading, Berks County, Pennsylvania.

7. Audubon Water Company D-2004-4 CP. An application for approval of a ground water withdrawal project to supply up to 14.688 mg/30 days of water to the applicant's public water distribution system from new Well No. AWC-14 in the Stockton Formation, 1.44 mg/30 days of water from Wells Nos. 1, 2 and 3 and to increase the existing withdrawal from all wells to 49.79 mg/30 days. The project wells are located in the Pine Run and Schuylkill River watersheds in Lower Providence Township, Montgomery County, Pennsylvania, in the Southeastern Pennsylvania Ground Water Protected Area.

8. West Bradford Township D-2004-22 CP. An application to construct a 0.146 million gallon per day (mgd) sewage treatment plant (STP) to serve a proposed 286 home development on the 559 acre DuPont Estate property off the intersection of Lone Eagle and Romansville Roads in West Bradford Township, Chester County, Pennsylvania. Following secondary treatment in oxidation lagoons, disinfected effluent will be spray applied to 26 adjacent acres at a rate of 0.16 inches per hour. A 14.7 million gallon storage pond will be provided to hold effluent for up to 100 days during prolonged cold or wet weather periods; therefore, no discharge to Broad Run in the West Branch Brandywine Creek Watershed is required.

9. Mobile Pipe Line Company D-2004-36-1. An application to construct a new 12-inch diameter refined petroleum products pipeline under the Delaware River to replace a common-trench dual pipeline, which is also used to convey liquid petroleum products (gasoline, heating oil and diesel fuel). The proposed pipeline crossing of the tidal Delaware River in DRBC Water Quality Zone 3 will utilize the best available technology to install the new pipeline approximately 30 to 50 feet below the bottom of the Delaware River, via the directional drilling method. The proposed 5,200 foot long pipeline will be connected on the New Jersey side of the Delaware Estuary with a proposed 1,400 foot long conventional trench pipeline to the Valero Refinery in Greenwich Township, Gloucester County. On the Pennsylvania side of the Delaware River, the proposed pipeline will be connected to a proposed 1,350 foot long conventional trench pipeline in Tinicum Township, Delaware County, where it will convey the flow to the existing distribution system. Less than one acre of wetlands will be disturbed, and that will be of temporary duration. The proposed pipeline will be pressure-tested using up to 50,000 gallons of potable water from the Philadelphia Water Department, which has adequate existing capacity, prior to the discharge to the Delaware Estuary via an existing energy-diffusing and chlorine-dissipating drainage swale.

10. Mafco Worldwide Corporation D-2004-38-1. An application for approval of a ground water and surface water withdrawal project to supply up to 11 million gallons per 30 days (mg/30 days) of water to the applicant's industrial food processing facility from Wells Nos. 1 East and 3 West and up to 11 mg/30 days from the Delaware River intakes and to limit the existing withdrawal from all sources to 11 mg/30 days. The project is located in the Delaware River in the City of Camden, Camden County, New Jersey.

11. Alcoa Extrusions, Inc. D-2005-1-1. An application for an existing industrial wastewater treatment plant to process up to 0.1 million gallons per day and to continue to discharge to the West Branch Schuylkill River through five existing outfalls. No modification of the existing plant or increase in flow is proposed. The applicant is a manufacturing facility located in Cressona Borough, Schuylkill County, Pennsylvania.

In addition to the public hearing on the dockets listed above, the Commission's 1:30 p.m. business meeting will include a public hearing and possible action on a resolution to amend Resolution No. 2002-33 relating to the operation of Lake Wallenpaupack during drought watch, drought warning and drought operations (previously noticed as a resolution to amend the Water Code and Comprehensive Plan relating to the coordinated operation of lower basin and hydroelectric reservoirs during a basinwide drought); and a resolution to amend the Water Quality Regulations, Water Code and Comprehensive Plan by establishing pollutant minimization plan requirements for point and non-point discharges following issuance of a TMDL or assimilative capacity determination.

The public hearing on the resolution to amend Resolution No. 2002-33 is the second public hearing on this item and is limited to comments on Paragraph 1.B.2. of the resolution. Paragraph 1.B.2. provides that during drought warning and drought operations, Lake Wallenpaupack will be utilized with consideration given to established flow and temperature targets in the Upper Delaware River and in the West Branch Delaware, East Branch Delaware, and Neversink Rivers. Comment on all other aspects of the resolution was closed following a public hearing on January 19, 2005.

The meeting will also include: adoption of the Minutes of the January 19, 2005 business meeting; announcements; a report on basin hydrologic conditions; a report by the executive director; a report by the Commission's general counsel; and an opportunity for public dialogue. Draft dockets and the resolutions scheduled for public hearing or action on March 16, 2005 will be posted on the Commission's Web site, http://www.drbc.net, where they can be accessed through the Notice of Commission Meeting and Public Hearing. Additional documents relating to the dockets and other items may be examined at the Commission's offices. Please contact William Muszynski at 609-883-9500 ext. 221 with any docket-related questions.

Individuals in need of an accommodation as provided for in the Americans with Disabilities Act who wish to attend the informational meeting, conference session or hearings should contact the commission secretary directly at 609-883-9500 ext. 203 or through the Telecommunications Relay Services (TRS) at 711, to discuss how the Commission may accommodate your needs.

Dated: February 22, 2005.
Pamela M. Bush,
Commission Secretary.

[FR Doc. 05-3768 Filed 2-25-05; 8:45 am]

BILLING CODE 6360-01-P